DEPARTMENT OF STATE

[Public Notice 8510]

Department of State Performance Review Board Members

In accordance with section 4314(c)(4) of 5 United States Code, the Department of State has appointed the following individuals to the Department of State Performance Review Board for Senior Executive Service members:

Robert Goldberg, Chairperson, Director, Office of the United States Foreign Assistance Resources, Department of State;

Linda Jacobson, Assistant Legal Advisor, Office of the Legal Advisor, Department of State;

Margaret Pollack, Office Director, Bureau of Population, Refugees and Migration, Department of State; and

Teddy Taylor, Diplomat in Residence, Bureau of Human Resources, Department of State.

Dated: October 21, 2013.
Hans Klemm,
Acting Director General of the Foreign Service and Director of Human Resources, Department of State.

[FR Doc. 2013-25755 Filed 10-29-13; 8:45 am]

BILLING CODE 4710-15-P